POSTAL SERVICE BOARD OF GOVERNORS

Sunshine Act Meeting

Date and Time: Tuesday, February 3, 2009, at 10 a.m.; Wednesday, February 4, 2009, at 8 a.m. and 10:30 a.m.

Place: Washington, DC, at U.S. Postal Service Headquarters, 475 L'Enfant Plaza, SW., in the Benjamin Franklin Room.

Status: February 3 at 10 a.m.—Closed; February 4 at 8 a.m.—Closed; February 4 at 10:30 a.m.—Open.

Matters to be Considered: Tuesday, February 3 at 10:00 a.m. (Closed):

1. Strategic Issues.

2. Pricing.

3. Financial Matters.

4. Personnel Matters and Compensation Issues.

5. Governors' Executive Session—Discussion of prior agenda items and Board Governance.

Wednesday, February 4 at 8 a.m. (Closed):

1. Continuation of Tuesday's closed session agenda.

Wednesday, February 4 at 10:30 a.m. (Open):

1. Minutes of the Previous Meetings, November 12-13, December 2, 2008; and January 22, 2009.

2. Remarks of the Chairman of the Board.

3. Remarks of the Postmaster General and CEO.

4. Committee Reports.

5. Quarterly Report on Service Performance.

6. Financial Update.

7. Tentative Agenda for the March 31-April 1, 2009, meeting in Washington, D.C.

8. Election of Chairman and Vice Chairman of the Board of Governors.

FOR FURTHER INFORMATION: Julie S. Moore, Secretary of the Board, U.S. Postal Service, 475 L'Enfant Plaza, SW., Washington, DC 20260-1000. Telephone (202) 268-4800.

Julie S. Moore,
Secretary.

[FR Doc. E9-2268 Filed 1-29-09; 4:15 pm]

BILLING CODE 7710-12-P